DEPARTMENT OF THE INTERIOR

Minerals Management Service

[Docket No. MMS-2008-OMM-0026]

MMS Information Collection Activity: 1010-0057, 30 CFR Part 250, Subpart C, Pollution Prevention and Control, Correction of an Information Collection Request; Submitted for Office of Management and Budget (OMB) Review; Comment Request

AGENCY: Minerals Management Service (MMS), Interior.

ACTION: Notice of an information collection (1010-0057) extension.

SUMMARY: This is a correction to the May 2, 2008 (73 FR 24308), request for comments. This notice is necessary to correct the hour burden for the requirements in § 250.301(a) in the burden table. The information collection request (ICR) concerns the paperwork requirements in the regulations under 30 CFR Part 250, Subpart C, “Pollution Prevention and Control.”

DATES: Submit written comments by July 28, 2008.

ADDRESSES: You may submit comments by any either of the following methods listed below.

• Electronically: go to http://www.regulations.gov. Under the tab “More Search Options,” click Advanced Docket Search, then select “Minerals Management Service” from the agency drop-down menu, then click “submit.” In the Docket ID column, select MMS-2008-OMM-0026 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0057” in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR Part 250, Subpart C, “Pollution Prevention and Control.”

OMB Control Number: 1010-0057.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1334(a)(8) requires that regulations prescribed by the Secretary include provisions “for compliance with the national ambient air quality standards pursuant to the Clean Air Act (42 U.S.C. 7401 et seq.), to the extent that activities authorized under this Act significantly affect the air quality of any State.” Section 1843(b) calls for “regulations requiring all materials, equipment, tools, containers, and all other items used on the Outer Continental Shelf to be properly color coded, stamped, or labeled, wherever practicable, with the owner's identification prior to actual use.”

This information collection (IC) request for comments concerns the regulations at 30 CFR Part 250, Subpart C, Pollution Prevention and Control. It also covers the related Notices to Lessees and Operators (NTLs) that the Minerals Management Service (MMS) issues to clarify and provide additional guidance on some aspects of the regulations.

We will protect information from respondents considered proprietary under the Freedom of Information Act (5 U.S.C. 552) and its implementing regulations (43 CFR part 2) and under regulations at 30 CFR 250.197, “Data and information to be made available to the public or for limited release.” No items of a sensitive nature are collected. Responses are mandatory.

Frequency: On occasion, monthly, or annually, daily for inspection recordkeeping; varies by section.

Estimated Number and Description of Respondents: Approximately 130 Federal OCS oil and gas or sulphur lessees and 17 states.

Estimated Reporting and Recordkeeping “Hour” Burden: The currently approved annual reporting burden for this collection is 226,451 hours. The following chart details the individual components and respective hour burden estimates of this ICR. In calculating the burdens, we assumed that respondents perform certain requirements in the normal course of their activities. We consider these to be usual and customary and took that into account in estimating the burden.

Citation 30 CFR 250 subpart C and NTL(s) | Reporting and recordkeeping requirement | Hour burden
Reporting Requirements
300(b)(1), (2) | Obtain approval to add petroleum-based substance to drilling mud system or approval for method of disposal of drill cuttings, sand, & other well solids, including those containing NORM | 3
300(c) | Mark items that could snag or damage fishing devices | 0.5
300(d) | Report items lost overboard | 1
303(a) thru (d), (i), (j); 304(a), (f) | Submit, modify, or revise Exploration Plans and Development and Production Plans; submit information required under 30 CFR part 250, subpart B | Burden covered under 1010-0151.
303(k); 304(a), (g) | Collect and report air quality emissions related data (such as facility, equipment, fuel usage, and other activity information) for input into State and regional planning organizations modeling | 3 hrs per month × 12 months = 36
303(k); 304(a), (g) | Monitor air quality emissions and submit data to MMS or to a State (new 1-year study of sites in the western/ central GOM area on ozone and regional haze air quality; data collection in 2005; report submitted in 2006) | 2 hours per month × 12 months = 24
303(l); 304(h) | Collect and submit meteorological data (not routinely collected) | None planned in the next 3 years.
304(a), (f) | Affected State may submit request to MMS for basic emission data from existing facilities to update State's emission inventory | 4
304(e)(2) | Submit compliance schedule for application of best available control technology (BACT) | 40
304(e)(2) | Apply for suspension of operations | Burden covered under 1010-0114.
304(f) | Submit information to demonstrate that exempt facility is not significantly affecting air quality of onshore area of a State | 15
300-304 | General departure and/or alternative compliance requests not specifically covered elsewhere in subpart C regulations | 2
Recordkeeping Requirements
300(d) | Record items lost overboard on daily operations report | 1
301(a) | Inspect drilling/production facilities daily for pollution; maintain inspection/repair records 2 years | Manned facilities − ¼ hr/day × 365 days = 91.25
|  | Unmanned facilities − 1/12 hr × every 3rd day (365/3 = 122 days) = 10.17

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment-including your personal identifying information-may be made publicly available at any time. While you can ask us in your comment to withhold your personal identifying information from public review, we cannot guarantee that we will be able to do so.

MMS Information Collection Clearance Officer: Arlene Bajusz (202) 208-7744.

Dated: May 20, 2008.
E.P. Danenberger,
Chief, Office of Offshore Regulatory Programs.

[FR Doc. E8-11809 Filed 5-27-08; 8:45 am]

BILLING CODE 4310-MR-P